DEPARTMENT OF THE INTERIOR

Fish and Wildlife Service

50 CFR Part 17

[Docket No. FWS-R2-ES-2023-0069; FF09E21000 FXES1111090FEDR 245]

RIN 1018-BE77

Endangered and Threatened Wildlife and Plants; Endangered Species Status for the Toothless Blindcat and the Widemouth Blindcat; Extension of Comment Period

AGENCY: Fish and Wildlife Service, Interior.

ACTION: Proposed rule; reopening of comment period.

SUMMARY: We, the U.S. Fish and Wildlife Service (Service), are reopening the comment period on our August 22, 2023, proposed rule to list the toothless blindcat (Trogloglanis pattersoni) and widemouth blindcat (Satan eurystomus), two cavefish species from the Edwards Aquifer in Bexar County, Texas, as endangered species under the Endangered Species Act of 1973, as amended (Act). We are reopening the proposed rule's comment period to give all interested parties an additional opportunity to comment on the proposed rule. Comments previously submitted need not be resubmitted, as they are already incorporated into the public record and will be fully considered in our final determinations.

DATES: The comment period on the proposed rule that published August 22, 2023, at 88 FR 57046, is reopened. We will accept comments received or postmarked on or before January 8, 2024. Comments submitted using the Federal eRulemaking Portal (see ADDRESSES, below) must be received by 11:59 p.m. eastern time on the closing date.

ADDRESSES: You may submit comments by one of the following methods:

(1) Electronically: Go to the Federal eRulemaking Portal: https://www.regulations.gov. In the Search box, enter FWS-R2-ES-2023-0069, which is the docket number for the August 22, 2023, proposed rule and this document. Then click on the Search button. On the resulting page, in the Search panel on the left side of the screen, under the Document Type heading, click on the Proposed Rule box to locate the correct document. You may submit a comment by clicking on “Comment.”

(2) By hard copy: Submit by U.S. mail to: Public Comments Processing, Attn: FWS-R2-ES-2023-0069, U.S. Fish and Wildlife Service, MS: PRB/3W, 5275 Leesburg Pike, Falls Church, VA 22041-3803.

We request that you send comments only by the methods described above. We will post all comments on https://www.regulations.gov. This generally means that we will post any personal information you provide us (see Public Comments, below, for more information).

FOR FURTHER INFORMATION CONTACT: Karen Myers, Field Supervisor, U.S. Fish and Wildlife Service, Austin Ecological Services Field Office, 1505 Ferguson Lane, Austin, TX 78754; telephone 512-937-7371. Individuals in the United States who are deaf, deafblind, hard of hearing, or have a speech disability may dial 711 (TTY, TDD, or TeleBraille) to access telecommunications relay services. Individuals outside the United States should use the relay services offered within their country to make international calls to the point-of-contact in the United States. Please see Docket No. FWS-R2-ES-2023-0069 on https://www.regulations.gov for a document that summarizes the August 22, 2023, proposed rule.

SUPPLEMENTARY INFORMATION:

Background

On August 22, 2023, we published a proposed rule (88 FR 57046) to list the toothless blindcat and widemouth blindcat as endangered species under the Act (16 U.S.C. 1531 et seq.). The proposed rule opened a 60-day comment period, ending October 23, 2023. On October 12, 2023, we received a request to extend the public comment period. With this document, we reopen the public comment period for an additional 30 days, as specified above in DATES.

For a description of previous Federal actions concerning the toothless blindcat and widemouth blindcat and information on the types of comments that would be helpful to us in making final determinations on our proposal, please refer to the August 22, 2023, proposed rule (88 FR 57046 at 57046-57047).

Public Comments

We will accept written comments and information during the reopened comment period on our August 22, 2023, proposed rule to list the toothless blindcat and widemouth blindcat. We will consider information and recommendations from all interested parties. We intend that any final action resulting from the proposal will be based on the best scientific and commercial data available and will be as accurate and as effective as possible. Our final determinations will take into consideration all comments and any additional information we receive during both comment periods on the proposed rule.

Because we will consider all comments and information we receive during both open comment periods, our final determinations may differ from our August 22, 2023, proposed rule (88 FR 57046). Based on the new information we receive (and, if relevant, any comments on that new information), we may conclude that one or both of the species is threatened instead of endangered, or we may conclude that one or both of the species does not warrant listing as either an endangered species or a threatened species. In our final rule, we will clearly explain our rationale and the basis for our final decisions, including why we made changes, if any, that differ from the August 22, 2023, proposal.

If you already submitted comments or information on the August 22, 2023, proposed rule, please do not resubmit them. Any such comments are incorporated as part of the public record of the rulemaking proceeding, and we will fully consider them in the preparation of our final determinations.

Comments should be as specific as possible. Please include sufficient information with your submission (such as scientific journal articles or other publications) to allow us to verify any scientific or commercial information you assert. Please note that submissions merely stating support for, or opposition to, the action under consideration without providing supporting information, although noted, will not be considered in making a determination, as section 4(b)(1)(A) of the Act directs that determinations as to whether any species is an endangered species or a threatened species must be made “solely on the basis of the best scientific and commercial data available.”

You may submit your comments and materials by one of the methods listed in ADDRESSES. We request that you send comments only by the methods described in ADDRESSES. If you submit information via https://www.regulations.gov, your entire submission—including your personal identifying information—will be posted on the website. If your submission is made via a hardcopy that includes personal identifying information, you may request at the top of your document that we withhold this information from public review. However, we cannot guarantee that we will be able to do so. We will post all hardcopy submissions on https://www.regulations.gov. Comments and materials we receive, as well as supporting documentation we used in preparing the proposed rule, will be available for public inspection on https://www.regulations.gov at FWS-R2-ES-2023-0069.

Authors

The primary authors of this document are the staff members of the Fish and Wildlife Service's Species Assessment Team and the Austin Ecological Services Field Office.

Authority

The Endangered Species Act of 1973, as amended (16 U.S.C. 1531 et seq.), is the authority for this action.

Martha Williams,
Director, U.S. Fish and Wildlife Service.

[FR Doc. 2023-26853 Filed 12-6-23; 8:45 am]

BILLING CODE 4333-15-P